NATIONAL SCIENCE FOUNDATION

Notice of Availability of Draft Comprehensive Environmental Evaluation (CEE) for Continuation and Modernization of McMurdo Station Area Activities in Antarctica

AGENCY: National Science Foundation.

ACTION: Notice of Availability.

SUMMARY: The National Science Foundation (NSF) has made available for public review and comment the Draft Comprehensive Environmental Evaluation (CEE) for Continuation and Modernization of McMurdo Station Area Activities, pursuant to the Antarctic Conservation Act, as amended, its implementing regulations, and in accordance with the Protocol on Environmental Protection to the Antarctic Treaty. The proposed activity would implement modernization projects at McMurdo Station while continuing United States Antarctic Program (USAP) science and operations at McMurdo Station and locations supported by the Station. NSF invites interested members of the public to provide written comments on this Draft CEE. Substantive comments will be addressed in a Final CEE.

DATES: NSF will accept comment on this permit application until July 11, 2019. The draft CEE may be viewed by interested parties at https://www.nsf.gov/geo/opp/antarct/treaty/modernization_cee.jsp.

ADDRESSES: Written comments should be addressed to Dr. Polly A. Penhale, Senior Advisor, Environment, Office of Polar Programs, National Science Foundation, 2415 Eisenhower Avenue, Alexandria, Virginia 22314 or CEE.comments@nsf.gov.

FOR FURTHER INFORMATION CONTACT: For further information regarding the CEE process, please contact Dr. Polly A. Penhale, at the above address, 703-292-8030, or CEE.comments@nsf.gov.

SUPPLEMENTARY INFORMATION: A Notice of Availability of the CEE to modernize McMurdo Station and continue McMurdo area science and operational activities was also published in the Federal Register (Vol 84, No.71/Friday, April 12, 2019, Page 14936) and is available through the Environmental Protection Agency's Environmental Impact Statement Database at https://cdxnodengn.epa.gov/cdx-enepa-II/public/action/eis/details?eisId=269627.

Additional information on the proposed actions and purpose and need are provided in the Notice of Intent to prepare a CEE published in the Federal Register (Vol. 81, No. 164/Wednesday, August 24, 2016, Pages 57940-57941).

Erika N. Davis,
Program Specialist, Office of Polar Programs.

[FR Doc. 2019-07903 Filed 4-18-19; 8:45 am]

BILLING CODE 7555-01-P